DEPARTMENT OF ENERGY

Federal Energy Regulatory Commission

[Docket Nos. ER08-61-000, ER08-61-001]

ISO New England Inc.; Notice Establishing Post-Technical Conference Comments

March 6, 2008.

On March 5, 2008, Commission staff convened a technical conference pursuant to the Commission's January 25, 2008 Order in this proceeding.¹ In accordance with the comment procedures established at the technical conference, post-technical conference comments are due no later than 5 p.m. Eastern Time on March 19, 2008.

¹ ISO New England Inc., 122 FERC ¶ 61,057 (2008).

For further information please contact Joshua Konecni at (202) 502-6291 or by e-mail at joshua.konecni@ferc.gov.

Kimberly D. Bose,
Secretary.

[FR Doc. E8-5027 Filed 3-12-08; 8:45 am]

BILLING CODE 6717-01-P